DEPARTMENT OF HOUSING AND URBAN DEVELOPMENT

[Docket No. FR-7098-N-05; OMB Control No.: 2502-0059]

60-Day Notice of Proposed Information Collection: Informed Consumer Choice Disclosure and Application for HUD/FHA Insured Mortgage

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 14, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Darian Ziegler, PRA Liaison, Department of Housing and Urban Development, 451 7th Street SW, Room 9139-37, Washington, DC 20410-5000.

FOR FURTHER INFORMATION CONTACT: Darian Ziegler, PRA Liaison, Office of Housing, Department of Housing and Urban Development, 451 7th Street SW, Room 9139-37, Washington, DC 20410; email darian.ziegler@hud.gov, or telephone (202) 402-4144. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Informed Consumer Choice Disclosure and Application for HUD/FHA Insured Mortgage.

OMB Approval Number: 2502-0059.

Type of Request: Renewal.

Form Number: HUD-92900-A, HUD-92900-B, HUD-92900-LT, HUD-92561, Model Notice for Informed Consumer Choice Disclosure Settlement Certification, and HUD-92544.

Description of the need for the information and proposed use: Specific forms and related documents are needed to determine the eligibility of the borrower and proposed mortgage transaction for FHA's mortgage insurance endorsement. The collection also contains additional notification requirements for lenders on refinances with existing FHA partial claim subordinate liens. Lenders seeking FHA's insurance prepare these forms to collect and report data.

This renewal also contains a revision to the prior Supporting Statement and removes the requirement that lenders provide Fannie Mae/Freddie Mac form 1103, Supplemental Consumer Information Form (SCIF). The SCIF is required by the GSE's but in not a statutory or regulatory requirement for HUD.

Respondents: Individuals (loan applicants) and Business or other for-profit (Lenders).

Estimated Number of Respondents: 2,045.

Estimated Number of Responses: 1,922,711.

Frequency of Response: One for each FHA-insured mortgage.

Average Hours per Response: 1.35 hours (0.74) (varies per form and type of loan).

Total Estimated Burdens: 504,875.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 2 of the Paperwork Reduction Act of 1995, 44 U.S.C. 3507.

Vance T. Morris,
Associate General Deputy Assistant Secretary for Housing.

[FR Doc. 2025-17746 Filed 9-12-25; 8:45 am]

BILLING CODE 4210-67-P